OFFICE OF THE UNITED STATES TRADE REPRESENTATIVE

[Docket Number USTR-2023-0007]

Request for Comments and Notice of Public Hearing Concerning Russia's Implementation of Its WTO Commitments

AGENCY: Office of the United States Trade Representative.

ACTION: Request for comments and notice of public hearing.

SUMMARY: The interagency Trade Policy Staff Committee (TPSC) will seek public comment to assist the Office of the United States Trade Representative (USTR) in the preparation of its annual report to Congress on Russia's implementation of its obligations as a Member of the World Trade Organization (WTO). This notice includes the schedule for the submission of comments to the TPSC for the Russia report and a public hearing.

DATES:

September 20, 2023 at 11:59 p.m. EDT: Deadline for submission of written comments, requests to testify, and written testimony, regarding the Russia WTO implementation report.

October 12, 2023 at 10:00 a.m. EDT: The TPSC will convene a public hearing to receive oral testimony related to the Russia WTO implementation report.

ADDRESSES: USTR strongly prefers electronic submissions made through the Federal eRulemaking Portal: http://www.regulations.gov (Regulations.gov). Follow the instructions for submitting comments in sections III and IV below, using docket number USTR-2023-0007. For alternatives to on-line submissions, please contact Silvia Savich, Deputy Assistant U.S. Trade Representative for Russia and Eurasia, in advance of the relevant deadline at Silvia.Savich@ustr.eop.gov or (202) 395-2256.

FOR FURTHER INFORMATION CONTACT: Silvia Savich, Deputy Assistant U.S. Trade Representative for Russia and Eurasia, at Silvia.Savich@ustr.eop.gov or (202) 395-2256.

SUPPLEMENTARY INFORMATION:

I. Background

Russia became a Member of the WTO on August 22, 2012, and on December 21, 2012, following termination of the application of the Jackson-Vanik amendment to Russia and the extension of permanent normal trade relations to the products of Russia, the United States and Russia filed letters with the WTO withdrawing their notices of non-application and consenting to have the WTO Agreement apply between them. In accordance with Section 201(a) of the Russia and Moldova Jackson-Vanik Repeal and Sergei Magnitsky Rule of Law Accountability Act of 2012 (Public Law 112-208), USTR is required to submit annually a report to Congress on the extent to which Russia is implementing the WTO Agreement, including the Agreement on the Application of Sanitary and Phytosanitary Measures and the Agreement on Trade Related Aspects of Intellectual Property Rights. The report also must assess Russia's progress on acceding to and implementing the Information Technology Agreement (ITA) and the Government Procurement Agreement (GPA). In addition, to the extent that USTR finds that Russia is not implementing fully any WTO agreement or is not making adequate progress in acceding to the ITA or the GPA, USTR must describe in the report the actions it plans to take to encourage Russia to improve its implementation and/or increase its accession efforts. In accordance with section 201(a), and to assist it in preparing this year's report, the TPSC is soliciting public comments.

The terms of Russia's accession to the WTO are contained in the Marrakesh Agreement Establishing the World Trade Organization and the Protocol on the Accession of the Russian Federation to the WTO (including its annexes) (Protocol). The Report of the Working Party on the Accession of the Russian Federation (Working Party Report) provides detail and context to the commitments listed in the Protocol. You can find the Protocol and Working Party Report on USTR's website at https://ustr.gov/node/5887 or on the WTO website at http://docsonline.wto.org (document symbols: WT/ACC/RUS/70, WT/MIN(11)/2, WT/MIN(11)/24, WT/L/839, WT/ACC/RUS/70/Add.1, WT/MIN(11)/2/Add.1, WT/ACC/RUS/70/Add.2, and WT/MIN(11)/2/Add.1.)

II. Hearing Participation

USTR will convene a public hearing on October 12, 2023 related to Russia's implementation of its WTO commitments. Persons wishing to observe the public hearing will find a link on USTR's web page for Russia on the day of the hearing at https://ustr.gov/countries-regions/europe-middle-east/russia-and-eurasia/russia. To ensure participation, you must submit requests to present oral testimony at the hearing and written testimony by midnight on September 20, 2023, via Regulations.gov, using Docket Number USTR-2023-0007. Instructions for submission are in Sections III and IV below. Remarks at the hearing will be limited to no more than five minutes to allow for possible questions from the TPSC. Because it is a public the hearing, testimony should not include any business confidential information (BCI). USTR will provide a link in advance of the virtual hearing to persons wishing to testify.

The TPSC requests small businesses or organizations representing small business members that submit comments to self-identify as such, so that we may be aware of issues of particular interest to small businesses.

Written comments and/or oral testimony should address Russia's implementation of the commitments made in connection with its accession to the WTO, including, but not limited to, commitments in the following areas:

a. Import regulation (e.g., tariffs, tariff-rate quotas, quotas, import licenses).

b. Export regulation.

c. Subsidies.

d. Standards and technical regulations.

e. Sanitary and phytosanitary measures.

f. Trade-related investment measures (including local content requirements).

g. Taxes and charges levied on imports and exports.

h. Other internal policies affecting trade.

i. Intellectual property rights (including intellectual property rights enforcement).

j. Services.

k. Government procurement.

l. Rule of law issues (e.g., transparency, judicial review, uniform administration of laws and regulations).

m. Trade facilitation.

n. Other WTO commitments.

III. Procedures for Written Submissions

To be assured of consideration, submit your written comments, requests to testify, and written testimony by the September 20, 2023, 11:59 p.m. EDT deadline. All submissions must be in English. USTR strongly encourages submissions via Regulations.gov, using Docket Number USTR-2023-0007.

To make a submission via Regulations.gov, enter Docket Number USTR-2023-0007 in the `search for' field on the home page and click `search.' The site will provide a search results page listing all documents associated with this docket. Find a reference to this notice by selecting `notice' under `document type' in the `refine documents results' section on the left side of the screen and click on the link entitled `comment.' Regulations.gov allows users to make submissions by filling in a `type comment' field, or by attaching a document using the `upload file' field. USTR prefers that you provide submissions in an attached document and, in such cases, that you write `see attached' in the `type comment' field. USTR prefers submissions in Microsoft Word (.doc) or Adobe Acrobat (.pdf). If you use an application other than those two, please indicate the name of the application in the `type comment' field.

At the beginning of your submission or on the first page (if an attachment), include the following text: (1) 2023 Russia WTO Implementation Report; (2) your organization's name; and (3) whether the submission is a comment, request to testify, or written testimony. Submissions should not exceed 30 single-spaced, standard letter-size pages in 12-point type, including attachments. Please do not attach separate cover letters, exhibits, annexes, or other attachments to electronic submissions; rather, include any in the same file as the submission itself, not as separate files. You will receive a tracking number upon completion of the submission procedure at Regulations.gov. The tracking number is confirmation that Regulations.gov received your submission. Keep the confirmation for your records. USTR is not able to provide technical assistance for Regulations.gov.

For further information on using Regulations.gov, please consult the resources provided on the website by clicking on `How to Use Regulations.gov' on the bottom of the home page. USTR may not consider submissions that you do not make in accordance with these instructions.

If you are unable to provide submissions as requested, please contact Silvia Savich, Deputy Assistant U.S. Trade Representative for Russia and Eurasia, in advance of the deadline at Silvia.Savich@ustr.eop.gov or (202) 395-2256, to arrange for an alternative method of transmission. USTR will not accept hand-delivered submissions. General information concerning USTR is available at www.ustr.gov.

IV. Business Confidential Information (BCI) Submissions

If you ask USTR to treat information you submit as BCI, you must certify that the information is business confidential and you would not customarily release it to the public. For any comments submitted electronically containing BCI, the file name of the business confidential version should begin with the characters `BCI.' You must clearly mark any page containing BCI with `BUSINESS CONFIDENTIAL' at the top of that page. Filers of submissions containing BCI also must submit a public version of their submission that will be placed in the docket for public inspection. The file name of the public version should begin with the character `P.'

V. Public Viewing of Review Submissions

USTR will post written submissions in the docket for public inspection, except properly designated BCI. You can view submissions at Regulations.gov by entering Docket Number USTR-2023-0007 in the search field on the home page.

William Shpiece,
Chair of the Trade Policy Staff Committee, Office of the United States Trade Representative.

[FR Doc. 2023-16931 Filed 8-7-23; 8:45 am]

BILLING CODE 3390-F3-P